DEPARTMENT OF DEFENSE

Office of the Secretary

Meeting of the Defense Department Advisory Committee on Women in the Services (DACOWITS)

AGENCY: Department of Defense.

ACTION: Notice.

SUMMARY: Pursuant to section 10(a), Public Law 92-463, as amended, notice is hereby given of a forthcoming meeting of the Defense Department Advisory Committee on Women in the Services (DACOWITS). The purpose of the Committee meeting is to discuss Deployment, Health Care, OPTEMPO, and Retention. The meeting is open to the public, subject to the availability of space.

DATES: February 4, 2004, 1 p.m.-5 p.m.; February 5, 2004, 8 a.m.-5:30 p.m.; February 6, 2004, 8 a.m.-5 p.m.

ADDRESSES: Doubletree Hotel Crystal City National Airport, 300 Army Navy Drive, Arlington, VA 22202.

FOR FURTHER INFORMATION CONTACT: MSgt Gerald Posey, USAF, DACOWITS, 4000 Defense Pentagon, Room 2C548A, Washington, DC 20301-4000. Telephone (703) 697-2122 or Fax (703) 614-6233.

SUPPLEMENTARY INFORMATION: Interested persons may submit a written statement for consideration by the Committee and make an oral presentation of such. Persons desiring to make an oral presentation or submit a written statement to the Committee must notify the point of contact listed above no later than 5 p.m., January 30, 2004. Oral presentations by members of the public will be permitted only on Thursday, February 5, 2004, from 5:15 p.m. to 5:30 p.m. before the full Committee. Presentations will be limited to two minutes. Number of oral presentations to be made will depend on the number of requests received from members of the public. Each person desiring to make an oral presentation must provide the point of contact listed above with one (1) copy of the presentation by 5 p.m., January 30, 2004, and bring 35 copies of any material that is intended for distribution at the meeting. Persons submitting a written statement must submit 35 copies of the statement to the DACOWITS staff by 5 p.m. on January 30, 2004.

Meeting Agenda

Wednesday, February 4, 2004, 1 p.m.-5 p.m.

Welcome & administrative remarks; deployment and OPTEMPO briefings; Welcome new members.

Thursday, February 5, 2004, 8 a.m.-5:30 p.m.

Service retention reports and surveys; Public forum (5:15-5:30).

Friday, February 6, 2004, 8. a.m.-5 p.m.

Wrap up retention and deployment; Health care; annual threat briefing; committee time-Focus group protocols with contractor.

Note: Exact order may vary.

Dated: January 14, 2004.
Patricia L. Toppings,
Alternate OSD Federal Register Liaison Officer, Department of Defense.

[FR Doc. 04-1275 Filed 1-21-04; 8:45 am]

BILLING CODE 5001-06-M